INTERNATIONAL TRADE COMMISSION

[USITC SE-08-006]

Government in the Sunshine Act Meeting Notice

Agency Holding the Meeting: United States International Trade Commission.

Time and Date: April 10, 2008 at 11 a.m.

Place: Room 101, 500 E Street, SW., Washington, DC 20436, Telephone: (202) 205-2000.

Status: Open to the public.

Matters to be Considered:

1. Agenda for future meetings: None.

2. Minutes.

3. Ratification List.

4. Inv. Nos. 701-TA-415 and 731-TA-933 and 934 (Review) (Polyethylene Terephthalate (PET) Film, Sheet, and Strip from India and Taiwan)—briefing and vote. (The Commission is currently scheduled to transmit its determinations and Commissioners' opinions to the Secretary of Commerce on or before April 23, 2008.)

5. Outstanding action jackets: None.

In accordance with Commission policy, subject matter listed above, not disposed of at the scheduled meeting, may be carried over to the agenda of the following meeting.

By order of the Commission.
Issued: March 28, 2008.
William R. Bishop,
Hearings and Meetings Coordinator.

[FR Doc. E8-6792 Filed 4-1-08; 8:45 am]

BILLING CODE 7020-02-P